DEPARTMENT OF LABOR

Office of Disability Employment Policy

[OMB Number 1230-0002]

Solicitation of Nominations for the Secretary of Labor's New Freedom Initiative Award; Extension of Period for Submission of Nominations Notice

1. Subject: The Secretary of Labor's New Freedom Initiative Award.

2. Purpose: This document extends the period for submission of nominations for the Secretary of Labor's New Freedom Initiative Award. This action is taken to permit increased participation by interested stakeholders.

3. Originator: Office of Disability Employment Policy (ODEP).

4. Dates: Nomination packages must be submitted to Secretary of Labor's New Freedom Initiative Award, Office of Disability Employment Policy, Room S-1303, 200 Constitution Avenue, NW., Washington, DC 20210 by May 31, 2007. Any application received after 4:45 p.m. EDT on May 31, 2007 will not be considered unless it was received before the award is made and:

1. It was sent by registered or certified mail no later than May 25, 2007;

2. It is determined by the Government that the late receipt was due solely to mishandling by the Government after receipt at the U.S. Department of Labor at the address indicated; or

3. It was sent by U.S. Postal Service Express Mail Next Day Service—Post Office to Addressee, not later than 5 p.m. EDT at the place of mailing, May 30, 2007.

The only acceptable evidence to establish the date of mailing of a late application sent by registered or certified mail is the U.S. Postal Service postmark on the envelope or wrapper and on the original receipt from the U.S. Postal Service. If the postmark is not legible, an application received after the above closing time and date will be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the time of receipt at the U.S. Department of Labor is the date/time stamp of the Office of Disability Employment Policy on the application wrapper or other documentary evidence or receipt maintained by that office.

Applications sent by other delivery services, such as Federal Express, UPS, e-mail, etc., will also be accepted; however, the applicant bears the responsibility of timely submission.

For further information, contact Margaret Roffee of the Office of Disability Employment Policy at telephone (202) 693-7880, (866) ODEP-DOL, TTY (202) 693-7881, prior to the closing deadline.

SUPPLEMENTARY INFORMATION: In the Federal Register of February 12, 2007 (72 FR 6673), the Office of Disability Employment Policy published a Solicitation of Nominations for the Secretary of Labor's New Freedom Initiative Award. Nomination packages were to be submitted to the Office of Disability Employment Policy by April 30, 2007. Because of the continuing interest in this solicitation, the agency believes that it is desirable to extend the period for submission of nominations. Therefore, the period for submission of nominations is extended until May 31, 2007.

Signed at Washington, DC, this 4th day of April 2007.
John R. Davey,
Director of Operations.

[FR Doc. E7-6609 Filed 4-6-07; 8:45 am]

BILLING CODE 4510-23-P